DEPARTMENT OF HOMELAND SECURITY

Federal Emergency Management Agency

44 CFR Part 67

[Docket ID FEMA-2010-0003; Internal Agency Docket No. FEMA-B-1134]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 30, 2011.

ADDRESSES: The corresponding preliminary Flood Insurance Rate Map (FIRM) for the proposed BFEs for each community is available for inspection at the community's map repository. The respective addresses are listed in the table below.

You may submit comments, identified by Docket No. FEMA-B-1134, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ^ Elevation in meters (MSL): Effective | * Elevation in feet (NGVD) + Elevation in feet (NAVD) # Depth in feet above ground ^ Elevation in meters (MSL): Modified | Communities affected
Gallatin County, Illinois, and Incorporated Areas
Ohio River | Approximately 1,666 feet downstream of Garfield Street (IL-13) | None | +367 | City of Shawneetown, Unincorporated Areas of Gallatin County, Village of Old Shawneetown.
| Approximately 1.19 mile upstream of Garfield Street (IL-13), approximately at River Mile 857 | +368 | +367
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Shawneetown
Maps are available for inspection at City Hall, 330 North Lincoln Boulevard, Shawneetown, IL 62984.
Unincorporated Areas of Gallatin County
Maps are available for inspection at the Gallatin County Courthouse, 484 North Lincoln Boulevard West, Shawneetown, IL 62984.
Village of Old Shawneetown
Maps are available for inspection at the Old Shawneetown Village Hall, 332 Washington Street, Shawneetown, IL 62984.
Hardin County, Illinois, and Incorporated Areas
Beaver Creek | Approximately 1.58 mile upstream of IL-1 | None | +366 | Unincorporated Areas of Hardin County.
| Approximately 1.92 mile upstream of IL-1 | None | +366
Ohio River | Approximately 1.34 mile downstream of Ferry Road extended (River Mile 894) | +355 | +356 | City of Rosiclare, Unincorporated Areas of Hardin County, Village of Elizabethtown.
| Approximately 1.97 mile upstream of Main Street extended (River Mile 887) | +358 | +359
Unnamed Tributary to Beaver Creek (East) | Approximately 1,500 feet upstream of the confluence with Beaver Creek | None | +366 | Unincorprated Areas of Hardin County.
| Approximately 0.69 mile upstream of the confluence with Beaver Creek | None | +366
Unnamed Tributary to Beaver Creek (West) | Approximately 1,500 feet upstream of the confluence with Beaver Creek | None | +366 | Unincorporated Areas of Hardin County.
| Approximately 0.99 mile upstream of the confluence with Beaver Creek | None | +366
Unnamed Tributary to Saline River | Approximately 1,800 feet upstream of the confluence with the Saline River | None | +366 | Unincorporated Areas of Hardin County.
| Approximately 2,000 feet upstream of the confluence with the Saline River | None | +366
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Rosiclare
Maps are available for inspection at City Hall, Main Street, Rosiclare, IL 62982.
Unincorporated Areas of Hardin County
Maps are available for inspection at the Hardin County Courthouse, 203 North Main Street, Elizabethtown, IL 62931.
Village of Elizabethtown
Maps are available for inspection at the Village Hall, 1 Locust Street, Elizabethtown, IL 62931.
Saline County, Illinois, and Incorporated Areas
Bankston Fork (backwater effects from Ohio River) | At the confluence with Middle Fork Saline River | None | +367 | City of Harrisburg, Unincorporated Areas of Saline County.
| Approximately 1,150 feet upstream of St. Mary's Drive | None | +367
Brier Creek | At the confluence with Middle Fork Saline River | None | +367 | Unincorporated Areas of Saline County.
| Approximately 0.53 mile upstream of IL-34 | None | +367
Cockerel Branch (backwater effects from Ohio River) | Approximately 1.1 mile downstream of County Highway 13 | None | +367 | Unincorporated Areas of Saline County.
| At Thaxton Road | None | +367
Eldorado Tributary | At the confluence with Middle Fork Saline River | None | +367 | Unincorporated Areas of Saline County.
| Approximately 1,545 feet downstream of Sutton Road | None | +367
Middle Fork Saline River (backwater effects from Ohio River) | At the confluence with South Fork Saline River | None | +367 | City of Harrisburg, Unincorporated Areas of Saline County, Village of Muddy.
| Approximately 2.4 miles upstream of IL-34 | None | +367
Saline River (backwater effects from Ohio River) | Approximately 3.5 miles downstream of Rocky Branch Road | None | +367 | Unincorporated Areas of Saline County.
| At the confluence of Middle Fork and South Fork Saline River | None | +367
South Fork Saline River (backwater effects from Ohio River) | At the confluence with Middle Fork Saline River | None | +367 | Unincorporated Areas of Saline County.
| Approximately 2.0 miles downstream of IL-34 | None | +367
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Harrisburg
Maps are available for inspection at City Hall, 110 East Locust Street, Harrisburg, IL 62946.
Unincorporated Areas of Saline County
Maps are available for inspection at the Saline County Courthouse, 10 East Poplar Street, Harrisburg, IL 62946.
Village of Muddy
Maps are available for inspection at the Village Hall, 60 Maple Street, Muddy, IL 62965.
Chisago County, Minnesota, and Incorporated Areas
Lake Ellen | Entire shoreline | None | +895 | City of Chisago City.
Skogman Lake | Entire shoreline within Chisago County | None | +950 | Unincorporated Areas of Chisago County.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Chisago City
Maps are available for inspection at City Hall, 10625 Railroad Avenue, Chisago City, MN 55013.
Unincorporated Areas of Chisago County
Maps are available for inspection at the Chisago County Government Center, 313 North Main Street, Center City, MN 55012.
Marion County, Tennessee, and Incorporated Areas
Little Sequatchie River | Approximately 2,500 feet downstream of Valley View Highway | +630 | +628 | Unincorporated Areas of Marion County.
| Approximately 1,400 feet downstream of Valley View Highway | +631 | +630
Town Creek | Just upstream of U.S. Route 64 | None | +619 | Town of Jasper.
| Approximately 4,000 feet upstream of U.S. Route 64 | None | +619
West Fork Pryor Cove Branch | At the confluence with Pryor Cove Branch | +716 | +717 | Town of Jasper, Unincorporated Areas of Marion County.
| Approximately 3,200 feet upstream of the confluence with Pryor Cove Branch | +786 | +784
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Town of Jasper
Maps are available for inspection at 4460 Main Street, Jasper, TN 37347.
Unincorporated Areas of Marion County
Maps are available for inspection at 4460 Main Street, Jasper, TN 37347.

(Catalog of Federal Domestic Assistance No. 97.022, “Flood Insurance.”)

Dated: September 21, 2010.
Edward L. Connor,
Acting Federal Insurance and Mitigation Administrator, Department of Homeland Security, Federal Emergency Management Agency.

[FR Doc. 2010-24868 Filed 10-4-10; 8:45 am]

BILLING CODE 9110-12-P